NATIONAL SCIENCE FOUNDATION

National Science Board ad hoc Committee on Nominations for the Class of 2008-2014; Sunshine Act Meetings; Notice

The National Science Board's ad hoc Committee on Nominations for the class of 2008-2014, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Date and Time: Thursday, July 26, 2007 at 12 Noon.

Subject Matter: Discussion of candidates for the National Science Board Membership for the term 2008-2014.

Status: Closed.

This meeting will be held by teleconference originating at the National Science Board Office, National Science Foundation, 4201 Wilson Blvd., Arlington, VA 22230. Please refer to the National Science Board Web site (http://www.nsf.gov/nsb) for information or schedule updates, or contact: Ann Noonan, National Science Board Office, 4201 Wilson Blvd., Arlington, VA 22230. Telephone: (703) 292-7000.

Russell Moy,
Attorney-Advisor.

[FR Doc. E7-14523 Filed 7-25-07; 8:45 am]

BILLING CODE 7555-01-P